DEPARTMENT OF TRANSPORTATION

Federal Highway Administration

Draft Environmental Impact Statement; Douglas County, CO

AGENCY: Federal Highway Administration (FHWA), DOT.

ACTION: Notice of availability.

SUMMARY: In compliance with the National Environmental Policy Act of 1969, the FHWA, in cooperation with the Colorado Department of Transportation (CDOT), have jointly prepared a Draft Environmental Impact Statement (EIS) for proposed transportation improvements in the South I-25 Corridor and US 85 Corridor of the Denver, Colorado metropolitan area. The project is within Douglas County. The Draft EIS identifies various alternatives and the associated environmental impacts of the proposed alternatives. Interested citizens are invited to review the Draft EIS and submit comments. Copies of the Draft EIS may be obtained by telephoning or writing the contact person listed below under ADDRESSES. Public reading copies of the Draft EIS are available at the locations listed under SUPPLEMENTARY INFORMATION.

DATES: A 45-day public review period will begin on July 5, 2000 and conclude on August 21, 2000. Written comments on the alternatives and impacts to be considered must be received by CDOT by August 21, 2000. Three public hearings to receive oral comments on the Draft EIS will be held in Castle Rock, Lone Tree, and Sedalia.

ADDRESSES: Written comments on the Draft EIS should be addressed to Wes Goff, Project Manager, Colorado Department of Transportation, South I-25 and US 85 Corridor, 18500 East Colfax Avenue, Aurora, CO 80011. Requests for a copy of the Draft EIS may be addressed to Mr. Wes Goff at the address above. Please see SUPPLEMENTARY INFORMATION section for a listing of the available documents and formats in which they may be obtained. Copies of the Draft EIS are also available for public inspection and review. See SUPPLEMENTARY INFORMATION section for locations.

FOR FURTHER INFORMATION CONTACT: To request copies of the Draft EIS or for additional information, contact: Mr. Scott Sands, FHWA, Colorado Division, 555 Zang Street, Room 250, Lakewood, CO, 80228, Telephone: (303) 969-6730 extension 362; or Mr. Wes Goff, Colorado Department of Transportation, Region 1, 18500 East Colfax Avenue, Aurora, CO 80011, Telephone: (303) 757-9647.

SUPPLEMENTARY INFORMATION: Hearing Dates and Locations:

Tuesday, July 25, 2000: Louviers Village Club House (5 p.m.-7 p.m.)

Wednesday, July 26, 2000: Lone Tree Civic Center (5 p.m.-7 p.m.)

Thursday, July 27, 2000: Douglas County Building (5 p.m.-7 p.m.)

Copies of the Draft EIS are available in hard copy format for public inspection at:

• CDOT Arapahoe Residency, 359 Inverness Drive South, Suite K, Englewood, CO 80112, 303-790-1020

• CDOT Office of Environmental Services, 1325 South Colorado Boulevard, Suite B400, Denver, CO 80222, 303-757-9259

• CDOT Region 1, 18500 E Colfax Avenue, Aurora, CO 80010, 303-757-9371

• Douglas County Planning Department, 100 Third Street, Castle Rock, CO 80104, 303-660-7490

• Federal Highway Administration, 555 Zang Street, Room 250, Lakewood, CO 80228, 303-969-6730

• Highlands Ranch Library, 48 West Springer Drive, Littleton, CO 80129-2314, 303-791-7703

• Lone Tree Library, 8827 Lone Tree Parkway, Lone Tree, CO 80124-8961, 303-799-4446

• Louviers Library, 7885 Louviers Boulevard, Louviers, CO 80131-9900, 303-791-7323

• Parker Library, 10851 South Crossroads Drive, Parker, CO 80134-9081, 303-841-3503

• PBS&J, 5500 Greenwood Plaza Blvd., Suite 150, Englewood, CO 80111, 303-221-7275

• Philip S. Miller Library, 961 S. Plum Creek Road, Castle Rock, CO 80104, 303-688-5157

• The document is also available on the project Website: www.southi25.com

Background

This Draft EIS provides a detailed evaluation of the South I-25 Corridor and US 85 Corridor improvement project. The project corridors both lie within Douglas County, Colorado. The I-25 Corridor extends from C-470 at approximate milepost 195 to the southern limit of Castle Rock at approximate milepost 178 and the US 85 Corridor extends from C-470 at approximate milepost 200 to Castle Rock at approximate milepost 184. This Draft EIS includes an examination of the purpose and need, alternatives under consideration, travel demand, affected environment, environmental consequences, and mitigation measures as a result of the improvements under consideration. Three alternatives, including the No-Action Alternative, and several other I-25 improvement options are considered for improvements to the I-25 Corridor. Two alternatives, including the No-Action Alternative, and one other US 85 improvement option are considered for improvements to the US 85 Corridor. CDOT was the lead agency for the preparation of the Draft EIS.

The FHWA, the CDOT, and other local agencies invite interested individuals, organizations, and Federal, State, and local agencies to comment on the evaluated alternatives and associated social, economic, or environmental impacts related to the alternatives.

Issued on: June 23, 2000.
James Daves,
Division Administrator, Federal Highway Administration, Lakewood, Colorado.

[FR Doc. 00-16853 Filed 7-3-00; 8:45 am]

BILLING CODE 4910-22-M